DEPARTMENT OF THE TREASURY

Agency Information Collection Activities; Submission for OMB Review; Comment Request; Air Carrier Loan and Payroll Support Programs

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before May 28, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Departmental Offices (DO)

Title: Air Carrier Loan and Payroll Support Programs.

OMB Control Number: 1505-0263.

Type of Request: Revision of a currently approved collection.

Description: Several pieces of legislation (the “Coronavirus Aid, Relief, and Economic Security Act” or the “CARES Act” (Pub. L. 116-136), the Consolidated Appropriations Act, 2021 or the “Appropriations Act,” and the American Rescue Plan Act, 2021) provided emergency assistance and health care response for individuals, families and businesses affected by the COVID-19 pandemic, and provided emergency appropriations to support executive branch agency operations during the COVID-19 pandemic. These authorized the Secretary of the Treasury to make loans, loan guarantees, other investments and assistance to eligible businesses (such as air carriers and certain related contractors), States, and municipalities related to losses incurred because of coronavirus.

While Treasury is no longer accepting loan program or Payroll Support Program (PSP) applications, both programs require ongoing compliance reporting for certain participants, as well as recordkeeping. Specifically, as part of the loan and PSP agreements, applicants were required to maintain records for a period of five years or more, depending on the agreement type and period of performance, as well as submit compliance reports on a quarterly basis to ensure funding is used in accordance with the agreements and aid statutory reporting requirements.

Form: None.

Affected Public: Businesses or other for-profits.

Estimated Number of Respondents: 34.

Frequency of Response: Quarterly, On occasion.

Estimated Total Number of Annual Responses: 170.

Estimated Time per Response: 4.25 hours for compliance reporting and recordkeeping, 30 hours for compliance audits.

Estimated Total Annual Burden Hours: 1,598.

Authority: 44 U.S.C. 3501 et seq.

Spencer W. Clark,
Treasury PRA Clearance Officer.

[FR Doc. 2025-07233 Filed 4-25-25; 8:45 am]

BILLING CODE 4810-AK-P